DEPARTMENT OF AGRICULTURE

7 CFR Part 15c

RIN 0503-AA57

Nondiscrimination on the Basis of Age in Programs or Activities Receiving Federal Financial Assistance From the U.S. Department of Agriculture

AGENCY: U.S. Department of Agriculture.

ACTION: Direct final rule.

SUMMARY: The U.S. Department of Agriculture (USDA) seeks to issue a Department-wide regulation to implement the Age Discrimination Act of 1975, as amended (“Age Act”), and the Government-wide Age Discrimination regulation promulgated by the U.S. Department of Health and Human Services (HHS). The Age Act and HHS regulations prohibit age discrimination in programs and activities receiving Federal financial assistance. The Direct final regulation intends to ensure compliance with the Age Act and HHS regulations and provide guidance to USDA agencies, employees, recipients, and beneficiaries on Age Act requirements.

DATES: This rule is effective January 9, 2015 unless the Agency receives written adverse comments on or before January 9, 2015. If we receive adverse comments or notices, the Office of the Assistant Secretary for Civil Rights (OASCR) will publish a timely document in the Federal Register withdrawing the rule. Comments received will be considered under the proposed rule published in this edition of the Federal Register in the proposed rule section. A second public comment period will not be held. Written comments must be received by the Agency or carry a postmark or equivalent no later than January 9, 2015.

ADDRESSES: Submit adverse comments to Anna G. Stroman, Chief, Policy Division, by mail at Office of the Assistant Secretary for Civil Rights, 1400 Independence Avenue SW., Washington, DC 20250. You can also submit adverse comments at http://www.regulations.gov.

FOR FURTHER INFORMATION CONTACT: Anna G. Stroman at (202) 205-5953 or at anna.stroman@ascr.usda.gov.

SUPPLEMENTARY INFORMATION:

Background

The Age Act, 42 U.S.C. Sections 6101-6107, et seq., prohibits discrimination on the basis of age in programs or activities receiving Federal financial assistance. The Age Act, which applies to persons of all ages, also contains certain exceptions that permit, under limited circumstances, use of age distinctions or factors other than age that may have a disproportionate effect on the basis of age.

The Age Act requires the head of each Federal department or agency that extends Federal financial assistance to any program or activity by way of grant, entitlement, loan, or contract other than a contract of insurance or guaranty, to publish agency-specific regulations setting standards regarding the Age Act to be followed by the agency's employees, recipients, and beneficiaries.

This Direct final rule establishes policy and provides guidance to USDA agencies, employees, recipients, and beneficiaries to ensure compliance with the Age Act and the requirements set by HHS in the Government-wide regulation at 45 CFR part 90. This regulation applies to each USDA recipient and to each program and activity receiving Federal financial assistance in whole or in part from USDA, its agencies and instrumentalities. The final rule does not apply to:

a. Conducted programs which is direct assistance, in which Federal funds flow directly and unconditionally from USDA to individual beneficiaries;

b. Age distinctions established under authority of any Federal, State, or local statute or ordinance adopted by an elected, general purpose legislative body which:

(1) Provides any benefits or assistance to persons based on age; or

(2) Establishes criteria for participation in age-related terms; or

(3) Describes intended beneficiaries or target groups in age-related terms;

c. Discrimination on the basis of age in employment, which is covered by the Age Discrimination in Employment Act of 1967, as amended, which is administered by the United States Equal Employment Opportunity Commission; and

d. Discrimination on the basis of age in programs or activities conducted by USDA, which is covered by 7 CFR part 15d “Nondiscrimination in Programs or Activities Conducted by the United States Department of Agriculture.”

Executive Orders 12866 and 13563

Executive Order 12866, “Regulatory Planning and Review,” and Executive Order 13563, “Improving Regulation and Regulatory Review,” direct agencies to assess all costs and benefits of available regulatory alternatives, and, if regulation is necessary, to select regulatory approaches that maximize net benefits (including potential economic, environmental, public health, and safety effects; distributive impacts; and equity). Executive Order 13563 emphasizes the importance of quantifying both costs and benefits, of reducing costs, of harmonizing rules, and promoting flexibility.

The Office of Management and Budget (OMB) designated this rule as not significant under Executive Order 12866, and, therefore, OMB was not required to review this direct final rule.

Regulatory Flexibility Act

OASCR has determined that, under section 605(b) of the Regulatory Flexibility Act (RFA) (5 U.S.C. 601, et seq., as amended by the Small Business Regulatory Enforcement Fairness Act of 1996), the final rule will not have a significant economic impact on a substantial number of small entities. In making this determination, OASCR used the definition of small entity set forth in the RFA: (1) A small business, as defined by the Small Business Administration in 13 CFR part 121.201; (2) a small governmental jurisdiction, which is a government of a city, county, town, school district or special district with a population of less than 50,000; and (3) a small organization, which is any non-profit enterprise that is independently owned and operated and is not dominant in its field.

Executive Order 12988

This direct final rule has been reviewed in accordance with Executive Order 12988, “Civil Justice Reform.” This direct final rule would not preempt State and or local laws, and rules, or policies unless they present an irreconcilable conflict with this rule. Before any judicial action may be brought regarding the provisions of this rule, the administrative appeal provisions of 7 CFR parts 11 and 780 must be exhausted.

Executive Order 13175

This direct final rule has been reviewed for compliance with Executive Order 13175, “Consultation and Coordination with Indian Tribal Governments.” The review reveals that this direct final rule will not have substantial and direct effects on Tribal Governments and will not have significant Tribal implications. OASCR provided a copy of the direct final rule to the USDA Office of Tribal Relations, who has indicated that the direct final rule will not impact or have direct effects on Tribal Governments and will not have significant Tribal implications. OASCR continues to consult with the USDA Office of Tribal Relations to have meaningful collaboration on the development and strengthening of departmental regulations.

Unfunded Mandates Reform Act of 1995

The Unfunded Mandates Reform Act of 1995 (UMRA), Pub. L. 104-4 (2 U.S.C. 1501 et seq.), does not apply to the rule because it does not apply to regulatory actions that establish or enforce statutory rights that prohibit discrimination on the basis of race, color, religion, sex, national origin, age, handicap or disability. Further, the rule contains no “Federal mandate” under Title II of UMRA because UMRA excludes from the definitions of “Federal intergovernmental mandate” and “Federal private sector mandate” duties that arise from conditions of Federal assistance and duties that arise from participation in a voluntary Federal program. Congress mandated in the Age Act the establishment of these agency-specific regulations to enforce the prohibition of discrimination on the basis of age in programs or activities receiving Federal financial assistance. These regulations do not apply to any program or activity unless it applies for and receives financial assistance from USDA. Application for, and receipt of, USDA assistance is entirely voluntary. In addition, USDA has determined that the rule will not significantly or uniquely affect state, local, and tribal governments. These regulations apply uniformly to all organizational recipients of USDA financial assistance.

Paperwork Reduction Act of 1995

USDA has determined that the Paperwork Reduction Act (PRA), 44 U.S.C. 3501 et seq., does not apply because the rule does not impose any new information collection requirements that require OMB approval. Section 3518(c)(1)(B) of the PRA exempts from OMB approval, collections of information “during the conduct of . . . (ii) an administrative action or investigation involving an agency against specific individuals or entities.” These regulations provide USDA with discretionary authority to require information from recipients as part of an investigation, thereby eliminating any PRA concerns, because it is discretionary and tied to USDA's authority to investigate. Further, the rule provides that individuals “may file” complaints and requires that recipients provide notice to sub-recipients of their obligations under the Age Act and the regulations, neither of which involve a “collection of information” under the PRA.

E-Government Act Compliance

OASCR is committed to complying with the E-Government Act, which requires Government agencies in general to provide the public the option of submitting information or transacting business electronically to the maximum extent possible.

List of Subjects in 7 CFR Part 15c

For the reasons set forth in the preamble, USDA adds 7 CFR part 15c to read as follows:

PART 15c_ NONDISCRIMINATION ON THE BASIS OF AGE IN PROGRAMS OR ACTIVITIES RECEIVING FEDERAL FINANCIAL ASSISTANCE FROM THE UNITED STATES DEPARTMENT OF AGRICULTURE

Sec.
15c.1 Purpose.
15c.2 Definitions.
15c.3 Discrimination prohibited.
15c.4 Assurance and notice requirements.
15c.5 Information requirements.
15c.6 Compliance.
15c.7 Complaints.
15c.8 Prohibition against intimidation and retaliation.
15c.9 Enforcement.
15c.10 Exhaustion of administrative remedies.
Appendix A to 7 CFR part 15c—Age Distinctions in Federal Statutes or Regulations Affecting Financial Assistance Administered by the United States Department of Agriculture

Authority: 5 U.S.C. 301; 42 U.S.C. 6101 et seq.

§ 15c.1 Purpose.

The purpose of this part is to establish the nondiscrimination policy of the USDA on the basis of age in programs and activities funded in whole or in part by USDA, in compliance with the Age Discrimination Act of 1975, as amended (Age Act), and the requirements set by the HHS in its Government-wide regulation at 45 CFR part 90.

§ 15c.2 Definitions.

Action means any act, activity, policy, rule, standard, or method of administration or use of any policy, rule, standard or method of administration.

Age Act means The Age Discrimination Act of 1975, as amended, 42 U.S.C. 6101 et seq.

Age means the number of elapsed years from the date of a person's birth.

Age distinction means any action using age or an age-related term.

Age-related term means a word or words that necessarily imply a particular age or range of ages (e.g. “children,” “adult,” or “older person”).

Agency means a major organizational unit of USDA with delegated authorities to deliver programs, activities, benefits, and services.

Agency Head means the head of any agency within USDA which may hold the title Administrator, Chief, or Director depending on the agency.

Assistant Secretary for Civil Rights (ASCR) means the civil rights officer for USDA responsible for the performance and oversight of all civil rights functions within USDA, and who retains the authority to delegate civil rights functions to heads of USDA agencies and offices. The ASCR is also responsible for evaluating agency heads on their performance of civil rights functions.

Beneficiary means a person or group of persons with an entitlement to receive or enjoy the benefits, services, resources, and information from, or to participate in, the activities and programs funded in whole or in part by USDA.

Complainant means any person or group of persons who files with any USDA agency a complaint that alleges discrimination in a program or activity funded in whole or in part by USDA.

Complaint means a written statement that contains the complainant's name and address and describes the alleged discriminatory action in sufficient detail to inform the Office of the Assistant Secretary for Civil Rights (OASCR) of the nature and date of the alleged civil rights violation. The statement must be signed by the complainant(s) or someone authorized to sign on behalf of the complainant(s). The complaint need not be written or signed if submitted in an alternate format to accommodate the complaint filing needs of a person who has Limited English Proficiency, a disability, or other special need. The complaint must be based on one or more prohibited bases.

Compliance Review means a systematically planned and regularly initiated investigation that assesses and evaluates the civil rights and equal opportunity policies, procedures and practices of a USDA agency or instrumentality to determine compliance with civil rights statutes, regulations, standards, and policies.

Department (used interchangeably with USDA) means the Department of Agriculture, and includes each of its operating agencies and other organizational units.

Discrimination means unlawful treatment or denial of benefits, services, terms, conditions, rights, or privileges to a person or persons based on a protected basis, including age.

(1) Federal Financial Assistance includes:

(i) Grants and loans of Federal funds;

(ii) The grant or donation of Federal property and interests in property;

(iii) The detail of Federal personnel;

(iv) The sale and lease of, and the permission to use (on other than a casual or transient basis), Federal property, or any interest in such property, or the furnishing of services without consideration or at a nominal consideration, or at a consideration which is reduced for the purpose of assisting the recipient, or in recognition of the public interest to be served by such sale, lease or furnishing of services to the recipient; and

(v) Any Federal agreement, arrangement, or other contract which has as one of its purposes the provision of assistance.

(2) Federal financial assistance does not include procurement contracts at market value, contracts of guarantee or insurance, regulated programs, licenses, or programs that provide direct benefits. The complaint must be based on one or more prohibited bases.

HHS means The United States Department of Health and Human Services.

Normal Operation means the operation of a program or activity without significant changes that would impair its ability to meet its objectives.

Program or activity includes all of the operations of:

(1) State and local governments. (i) A department, agency, special purpose district, or other instrumentality of a State or of a local government; or

(ii) The entity of such State or local government that distributes Federal financial assistance and each such department or agency (and each other State or local government entity) to which the assistance is extended, in the case of assistance to a State or local government.

(2) Educational institutions. (i) A college, university, or other postsecondary institution, or a public system of higher education; or

(ii) A local educational agency (as defined in 20 U.S.C. 7801), system of vocational education, or other school system.

(3) Private organizations. (i) An entire corporation, partnership, or other private organization, or an entire sole proprietorship—

(A) If assistance is extended to such corporation, partnership, private organization, or sole proprietorship as a whole; or

(B) Which is principally engaged in the business of providing education, health care, housing, social services, or parks and recreation.

(ii) The entire plant or other comparable, geographically separate facility to which Federal financial assistance is extended, in the case of any other corporation, partnership, private organization, or sole proprietorship.

(4) Other organizations receiving Federal financial assistance. Any other entity which is established by two or more of the entities described in paragraph (r)(1), (2), or (3) of this section; any part of which is extended Federal financial assistance.

Recipient means any State, political subdivision of any State, or instrumentality of any State or political subdivision (to include the District of Columbia and any United States territories and possessions), any public or private entity, institution, organization or any of their instrumentalities, or any individual (provided the individual is not the ultimate beneficiary) in any State, to whom Federal financial assistance is extended, directly or through another recipient, for any program or activity, including any successor, assignee, or transferee thereof.

Statutory Objective means any purpose of a program or activity expressly stated in any Federal statute, State statute, or local statute or ordinance adopted by an elected general purpose legislative body.

§ 15c.3 Discrimination prohibited.

(a) General. No person in the United States shall, on the basis of age, be excluded from participation in, be denied the benefits of, or be subjected to discrimination under any program or activity receiving Federal financial assistance.

(b) Specific discriminatory actions prohibited. A recipient may not, in any program or activity receiving Federal financial assistance, directly or through contractual, licensing, or other arrangements use age distinctions or take any other actions which have the effect, on the basis of age, of:

(1) Excluding individuals from, denying them the benefits of, or subjecting them to discrimination under, a program or activity receiving Federal financial assistance, or

(2) Denying or limiting individuals in their opportunity to participate in any program or activity receiving Federal financial assistance.

(c) Specific forms of age discrimination. The specific forms of age discrimination listed in paragraph (b) of this section do not necessarily constitute a complete list.

(d) Exceptions to the rules against age discrimination. (1) A recipient is permitted to take an action, otherwise prohibited by this section, if the action reasonably takes into account age as a factor necessary to the normal operation or the achievement of any statutory objective of a program or activity. An action reasonably takes into account age as a factor necessary to the normal operation or the achievement of any statutory objective of a program or activity, if:

(i) Age is used as a measure or approximation of one or more other characteristics;

(ii) The other characteristic(s) must be measured or approximated in order for the normal operation of the program or activity to continue, or to achieve any statutory objective of the program or activity;

(iii) The other characteristic(s) can be reasonably measured or approximated by the use of age; and

(iv) The other characteristic(s) are impractical to measure directly on an individual basis.

(2) A recipient is permitted to take an action otherwise prohibited by this section that is based on a factor other than age, even though that action may have a disproportionate effect on persons of different ages. An action may be based on a factor other than age only if the factor bears a direct and substantial relationship to the normal operation of the program or activity or to the achievement of a statutory objective.

(3) If a recipient operating a program or activity provides special benefits to the elderly or to children, such use of age distinctions shall be presumed to be necessary to the normal operation of the program or activity, notwithstanding the provisions of this subpart.

(4) Any age distinctions contained in a rule or regulation issued by USDA shall be presumed to be necessary to the achievement of a statutory objective of the program or activity to which the rule or regulation applies, notwithstanding the provisions of this part.

§ 15c.4 Compliance, assurance, and notice requirements.

(a) USDA recipients have primary responsibility to ensure that their programs and activities are in compliance with the Age Act and this regulation and shall take steps to eliminate violations of the Age Act. Each recipient of Federal financial assistance from USDA shall sign a written assurance as specified by the Department that it shall comply with the Age Act and this regulation. Each recipient initially receiving funds from USDA that makes the funds available to a sub-recipient must notify the sub-recipient of its obligations under the Age Act.

(b) Each recipient shall make necessary information about the Age Act and this regulation available to its beneficiaries in order to inform them about the protections against discrimination provided by the Act and this regulation.

§ 15c.5 Information requirements.

Each recipient shall maintain records in a form and containing information which the agency determines may be necessary to ascertain whether the recipient is complying with the Age Act and this regulation. Each recipient shall provide the agency any information necessary to determine whether the recipient is in compliance with the Age Act and this rule. Each recipient shall also permit reasonable access to the agency of the books, records, accounts, and other facilities and sources of information to the extent necessary to determine whether a recipient is in compliance with the Age Act and this regulation.

§ 15c.6 Compliance reviews.

(a) USDA may conduct compliance reviews or use other similar procedures to review the activities of recipients to determine whether they are complying with the Age Act and this regulation and to investigate and address violations of the Age Act. USDA may conduct these reviews, at any time, even in the absence of a complaint against a recipient. The reviews may be as comprehensive as necessary to determine whether a violation of the Age Act or this regulation has occurred.

(b) If a compliance review indicates a violation of the Age Act or this regulation, USDA shall attempt to achieve voluntary compliance with the Age Act. USDA shall monitor and evaluate a recipient's efforts to remedy a violation to ensure compliance consistent with applicable civil rights requirements until compliance has been achieved. If voluntary compliance cannot be achieved, USDA shall undertake enforcement of the Age Act and this regulation.

§ 15c.7 Complaints.

(a) Filing of complaints. Any person who believes he/she or any specific class of individuals has been subject to discrimination by a recipient or believes that the recipient is otherwise in noncompliance with the provisions of the Age Act or this regulation may file a complaint with OASCR. The USDA Program Discrimination Complaint Form may be used to file a complaint.

(b) Time and place of filing. All age discrimination complaints alleging discrimination or noncompliance must be filed within 180 days of the last discriminatory act, to be timely. All complaints under this part shall be filed with the Office of the Assistant Secretary for Civil Rights, U.S. Department of Agriculture, Washington, DC 20250.

(c) Notice of rights and responsibilities. USDA shall provide notice to the complainant and the recipient of their:

(1) Rights and obligations under complaint procedures including their right to have a representative at all stages of the complaint process;

(2) Rights to contact the agency for information and assistance regarding the complaint resolution process; and

(3) Obligation to participate actively in efforts toward speedy resolution of the complaint.

(d) Mediation of complaints. All complaints that allege discrimination based on age shall be mediated in an attempt to resolve disputes at the earliest stage possible. The complainant and the recipient are required to participate in the mediation process. If the complainant and recipient reach a mutually satisfactory resolution of the complaint during the mediation period, they shall reduce the agreement to writing.

(e) Investigation of complaints. If the parties are unable to reach a resolution, USDA shall investigate the complaint. During the investigation of the complaint, OASCR or an agency delegated complaint processing authority shall use informal fact finding methods, including joint or separate discussions with the complainant and recipient, to establish the facts and, if possible, settle the complaint on terms that are mutually agreeable to the parties. USDA may seek the assistance of any involved State agency. If informal resolution efforts are unsuccessful, OASCR shall complete the investigation.

(f) Final determination. After a complete investigation, OASCR shall make a final determination as to the merits of the complaint. The complainant shall be notified of the final determination and provided notice of his or her right to file a civil action under the Age Act, 42 U.S.C. 6104(e), and 15c.10 of this part.

(g) Voluntary compliance. If OASCR or an agency delegated complaint processing authority finds that age discrimination has occurred, USDA shall attempt to obtain voluntary compliance. The recipient shall take any remedial action which USDA may require to overcome the effects of discrimination. If USDA cannot obtain voluntary compliance, it shall undertake enforcement of the Age Act and this regulation.

§ 15c.8 Prohibition against intimidation or retaliation.

A recipient may not engage in acts of intimidation or retaliation against any person who:

(a) Attempts to assert a right protected by the Age Act; or

(b) Cooperates in any mediation, investigation, hearing, or other part of the agency's investigation, conciliation, and enforcement process.

§ 15c.9 Enforcement.

(a) If USDA finds that a recipient has committed a violation of the Age Act and determines that voluntary compliance cannot be obtained, the Department shall enforce the requirements of the Age Act and this regulation through the termination of a recipient's Federal financial assistance under the program or activity involved where the recipient has violated the Age Act or this regulation. The determination of the recipient's violation may be made only after a recipient has had an opportunity for a hearing on the record before an administrative law judge.

(1) Any termination under this paragraph (a) shall be limited to the particular recipient and particular program or activity receiving Federal financial assistance or portion thereof found to be in violation of the Age Act or this regulation.

(2) No action under this paragraph (a) may be taken until:

(i) OASCR, or designee, has advised the recipient of its failure to comply with the Age Act and this regulation, and has determined that voluntary compliance cannot be obtained; and

(ii) Thirty days have elapsed after the head of the agency involved has sent a written report of the circumstances and grounds of the action to the committees of the Congress having legislative jurisdiction over the program or activity involved.

(3) An agency may defer granting new Federal financial assistance to a recipient when termination proceedings under this paragraph (a) are initiated.

(b) When an agency withholds funds from a recipient under this regulation, the Agency Head may disburse the withheld funds directly to any public or non-profit private organization or agency, or State or political subdivision of the State. These alternate recipients must demonstrate the ability to comply with this regulation and to achieve the goals of the Federal statute authorizing the Federal financial assistance.

(c) USDA may seek to achieve compliance with the Age Act and this regulation by any other means authorized by law.

§ 15c.10 Exhaustion of administrative remedies.

(a) A complainant may file a civil action, in a United States district court for the district in which the recipient is found or transacts business, following the exhaustion of administrative remedies under the Act. Administrative remedies are exhausted if:

(1) 180 days have elapsed since the complainant filed the complaint and the agency has made no finding with regard to the complaint; or

(2) The agency issues any finding in favor of the recipient.

(b) Before commencing the action, the complainant shall give 30 days' notice by registered mail to the Secretary of HHS, the Attorney General of the United States, the head of the granting USDA agency, and the recipient stating the alleged violation of the Age Act, the relief requested, the court in which the action will be brought, and whether or not attorney's fees are demanded in the event the complainant prevails.

(c) No action shall be brought if the same alleged violation of the Act by the same recipient is the subject of a pending action in any court of the United States. A complainant prevailing in a civil action has the right to be awarded the costs of the action, including reasonable attorney's fees, but that these costs must be demanded in the complaint.

Appendix A to 7 CFR Part 15c—Age Distinctions in Federal Statutes or Regulations Affecting Financial Assistance Administered by the United States Department of Agriculture

Program | Statute | Section and age distinction | Regulation
Farm Service Agency
Farm Loan Programs | 7 U.S.C. 1941 Persons Eligible For Loans | Section 761.2 defines “rural youth” as meaning a person who has reached the age of 10 but has not reached the age of 21 and resides in a rural area or any city or town with a population of 50,000 or fewer people | 7 CFR part 761.
Food and Nutrition Service
Senior Farmer's Market Nutrition Program | 7 U.S.C. 3007 Senior Farmers' Market Nutrition Program | Section 249.2 defines “senior” as meaning an individual 60 years of age or older, or as defined in § 249.6(a)(1) Section 249.6(a)(1) establishes categorical eligibility for the Senior Farmers' Market Nutrition Program. The categorical eligibility states that: “participants must be not less than 60 years of age, except that State agencies may exercise the option to deem Native Americans who are 55 years of age or older as categorically eligible for SFMNP benefits. State agencies may, at their discretion, also deem disabled individuals less than 60 years of age who are currently living in housing facilities occupied primarily by older individuals where congregate nutrition services are provided, as categorically eligible to receive SFMNP benefits” | 7 CFR part 249.
Special Supplemental Nutrition Program for Women, Infants, and Children | 42 U.S.C. 1786 | Section 246.2 defines “children” as meaning persons who have had their first birthday but have not yet attained their fifth birthday Section 246.2 defines “infants” as meaning persons under 1 year of age
|  | Section 246.10(e) establishes category and nutritional needs of the participant for each of the seven food packages available under the program. Food Packages I, II, and IV contain age distinctions. (e)(1) Food Package I—Infants birth through 5 months—(i) Participant category served. This food package is designed for issuance to infant participants from birth through age 5 months who do not have a condition qualifying them to receive Food Package III. (ii) Infant feeding categories—(A) Birth to one month. Three infant feeding options are available during the first month after birth(B) . . . One through 5 months. Three infant feeding options are available from 1 month through 5 months . . . (2) Food Package II—Infants 6 through 11 months—(i) Participant category served. This food package is designed for issuance to infant participants from 6 through 11 months of age . . . (4) Food Package IV—Children 1 through 4 years—(i) Participant category served. This food package is designed for issuance to participants 1 through 4 years of age | 7 CFR part 246.
Commodity Supplemental Food Program | Sec. 5, Pub. L. 93-86, 87 Stat. 249, as added by Sec. 1304(b)(2), Pub. L. 95-113, 91 Stat. 980 (7 U.S.C. 612c note); sec. 1335, Pub. L. 97-98, 95 Stat. 1293 (7 U.S.C. 612c note); sec. 209, Pub. L. 98-8, 97 Stat. 35 (7 U.S.C. 612c note); sec. 2(8), Pub. L. 98-92, 97 Stat. 611 (7 U.S.C. 612c note); sec. 1562, Pub. L. 99-198, 99 Stat. 1590 (7 U.S.C. 612c note); sec. 101(k), Pub. L. 100-202; sec. 1771(a), Pub. L. 101-624, 101 Stat. 3806 (7 U.S.C. 612c note); sec 402(a), Pub. L. 104-127, 110 Stat. 1028 (7 U.S.C. 612c note); sec. 4201, Pub. L. 107-171, 116 Stat. 134 (7 U.S.C. 7901 note); sec. 4221, Pub. L. 110-246, 122 Stat. 1886 (7 U.S.C. 612c note) | Section 247.1 defines “children” as meaning persons who are at least 1 year of age but have not reached their sixth birthday Section 247.1 defines “elderly persons” as meaning persons at least 60 years of age Section 247.1 defines “infants” as meaning persons under 1 year of age | 7 CFR part 247.
Food Stamp and Food Distribution Program | 7 U.S.C. 2011-2036 | Section 271.2 defines “elderly or disabled member” as meaning a member of a household who: (1) Is 60 years of age or older | 7 CFR part 271
|  | Section 271.2 defines “Thrifty food plan” as meaning the diet required to feed a family of four persons consisting of a man and a woman 20 through 50, a child 6 through 8, and a child 9 through 11 years of age, determined in accordance with the Secretary's calculations | 7 CFR part 273
|  | Section 273.1 defined “Elderly and disabled persons” as meaning an otherwise eligible member of a household who is 60 years of age or older and is unable to purchase and prepare meals because he or she suffers from a disability considered permanent under the Social Security Act or a non-disease-related, severe, permanent disability may be considered
|  | Section 273.1(b) outlines special household requirements. (b) Special household requirements—(1) Required household combinations. The following individuals who live with others must be considered as customarily purchasing food and preparing meals with the others, even if they do not do so, and thus must be included in the same household, unless otherwise specified.(i) Spouses; (ii) A person under 22 years of age who is living with his or her natural or adoptive parent(s) or step-parent(s); and (iii) A child (other than a foster child) under 18 years of age who lives with and is under the parental control of a household member other than his or her parent. A child must be considered to be under parental control for purposes of this provision if he or she is financially or otherwise dependent on a member of the household, unless State law defines such a person as an adult
|  | Section 273.1(d) outlines head of household requirements. When designating the head of household, the State agency shall allow the household to select an adult parent of children (of any age) living in the household, or an adult who has parental control over children (under 18 years of age) living in the household, as the head of household provided that all adult household members agree to the selection
|  | Section 273.4(a)(4)(iii) outlines household members meeting citizenship or alien status requirements. An unmarried dependent child of such Hmong or Highland Laotian who is under the age of 18 or if a full-time student under the age of 22; an unmarried child under the age of 18 or if a full time student under the age of 22 of such a deceased Hmong or Highland Laotian provided the child was dependent upon him or her at the time of his or her death; or an unmarried disabled child age 18 or older if the child was disabled and dependent on the person prior to the child's 18th birthday. For purposes of this paragraph (a)(4)(iii), child means the legally adopted or biological child of the person described in paragraph (a)(4)(i) of this section,
|  | Section 273.4(a)(5)(ii) outlines household members meeting citizenship or alien status requirements which includes an alien who has been subjected to a severe form of trafficking in persons and who is under the age of 18, to the same extent as an alien who is admitted to the United States as a refugee under Section 207 of the INA;
|  | Section 273.4(a)(5)(iii) outlines household members meeting citizenship or alien status requirements which includes the spouse, child, parent or unmarried minor sibling of a victim of a severe form of trafficking in persons under 21 years of age, and who has received a derivative T visa, to the same extent as an alien who is admitted to the United States as a refugee under Section 207 of the INA
|  | Section 273.4(a)(5)(iv) outlines household members meeting citizenship or alien status requirements which includes the spouse or child of a victim of a severe form of trafficking in persons 21 years of age or older, and who has received a derivative T visa, to the same extent as an alien who is admitted to the United States as a refugee under Section 207 of the INA
|  | Section 273.4(a)(6)(ii)(A) outlines the criteria for a qualified alien which includes an alien age 18 or older lawfully admitted for permanent residence under the INA who has 40 qualifying quarters as determined under Title II of the SSA, including qualifying quarters of work not covered by Title II of the SSA, based on the sum of: quarters the alien worked; quarters credited from the work of a parent of the alien before the alien became 18 (including quarters worked before the alien was born or adopted); and quarters credited from the work of a spouse of the alien during their marriage if they are still married or the spouse is deceased
|  | Section 273.4(a)(6)(ii)(G)(3) outlines the criteria for a qualified alien with military connections which includes the spouse and unmarried dependent children of a person described in paragraph (a)(6)(ii)(G)(1) or (2) of this section, including the spouse of a deceased veteran, provided the marriage fulfilled the requirements of 38 U.S.C. 1304, and the spouse has not remarried. An unmarried dependent child for purposes of this paragraph (a)(6)(ii)(G)(3) is: a child who is under the age of 18 or, if a full-time student, under the age of 22; such unmarried dependent child of a deceased veteran provided such child was dependent upon the veteran at the time of the veteran's death; or an unmarried disabled child age 18 or older if the child was disabled and dependent on the veteran prior to the child's 18th birthday. For purposes of this paragraph (a)(6)(ii)(G)(3), child means the legally adopted or biological child of the person described in paragraph (a)(6)(ii)(G)(1) or (2) of this section
|  | Section 273.4(a)(6)(ii)(I) outlines the criteria for a qualified alien which includes an individual who on August 22, 1996, was lawfully residing in the U.S., and was born on or before August 22, 1931
|  | Section 273.4(a)(6)(ii)(J) outlines the criteria for a qualified alien which includes an individual who is under 18 years of age
|  | Section 273.4(a)(6)(iii)(A) outlines qualified aliens that must be in a qualified status for 5 years before being eligible to receive food stamps which includes an alien age 18 or older lawfully admitted for permanent residence under the INA
|  | Section 273.4(c)(3)(vi) outlines exempt aliens which includes a sponsored alien child under 18 years of age of a sponsored alien
|  | Section 273.4(c)(3)(vii) ) outlines exempt aliens which includes a citizen child under age 18 of a sponsored alien
|  | Section 273.5 (b)(1) outlines criteria for student eligibility for the program which includes be age 17 or younger or age 50 or older
|  | Section 273.5(b)(8) outlines criteria for student eligibility for the program which includes a person who is responsible for the care of a dependent household member under the age of 6
|  | Section 273.5(b)(9) outlines criteria for student eligibility for the program which includes a person who is responsible for the care of a dependent household member who has reached the age of 6 but is under age 12
|  | Section 273.5(b)(10) outlines criteria for student eligibility for the program which includes a single parent enrolled in an institution of higher education on a full-time basis (as determined by the institution) and be responsible for the care of a dependent child under age 12
|  | Section 273.5(b)(4) states that if the household is unable to provide an SSN or proof of application for an SSN at its next recertification within 6 months following the baby's birth, the State agency shall determine if the good cause provisions of paragraph (d) of this section are applicable
|  | Section 273.7(b)(1)(i) outlines exemptions from work requirements which includes a person younger than 16 years of age or a person 60 years of age or older and a person age 16 or 17 who is not the head of a household or who is attending school, or is enrolled in an employment training program, on at least a half-time basis, is also exempt. If the person turns 16 (or 18 under the preceding sentence) during a certification period, the State agency must register the person as part of the next scheduled recertification process, unless the person qualifies for another exemption
|  | Section 273.9(b)(1)(v) defines income which includes the phrase this provision does not apply to household members under 19 years of age who are under the parental control of another adult member, regardless of school attendance and/or enrollment
|  | Section 273.9(d)(4) outlines income deduction which include dependent care stating the maximum monthly dependent care deduction amount households shall be granted under this provision is $200 a month for each dependent child under two (2) years of age and $175 a month for each other dependent
|  | Section 273.10(e)(2)(i)(A) outlines eligibility benefits states households which contain an elderly or disabled member as defined in § 271.2
|  | Section 273.10(e)(2)(i)(B) outlines eligibility benefits which states in addition to meeting the net income eligibility standards, households which do not contain an elderly or disabled member shall have their gross income, as calculated in accordance with paragraph (e)(1)(i)(A) of this section, compared to the gross monthly income standards defined in § 273.9(a)(1)
|  | Section 273.10(e)(2)(i)(D) outlines eligibility benefits which states if a household contains a member who is 59 years old on the date of application, but who will become 60 before the end of the month of application, the State agency shall determine the household's eligibility in accordance with paragraph (e)(2)(i)(A) of this section
|  | Section 273.24(c)(1) outlines exceptions for when the time limit does not apply to an individual which include a person under 18 or 50 years of age or older Section 273.24(c)(3) outlines exceptions for when the time limit does not apply to an individual which include a parent (natural, adoptive, or step) of a household member under age 18, even if the household member who is under 18 is not himself eligible for food stamps Section 273.24(c)(4) outlines exceptions for when the time limit does not apply to an individual which include a person residing in a household where a household member is under age 18, even if the household member who is under 18 is not himself eligible for food stamps
National School Lunch Program | 42 U.S.C. 1751-1760, 1779 | Section 210.2 defines “Child” as meaning a (a) a student of high school grade or under as determined by the State educational agency, who is enrolled in an educational unit of high school grade or under as described in paragraphs (a) and (b) of the definition of “School,” including students who are mentally or physically disabled as defined by the State and who are participating in a school program established for the mentally or physically disabled; or (b) a person under 21 chronological years of age who is enrolled in an institution or center as described in paragraph (c) of the definition of “School;” or (c) For purposes of reimbursement for meal supplements served in afterschool care programs, an individual enrolled in an afterschool care program operated by an eligible school who is 12 years of age or under, or in the case of children of migrant workers and children with disabilities, not more than 15 years of age Section 12(d) defines “Child” as meaning an individual, regardless of age, who—(i) is determined by a State educational agency, in accordance with regulations prescribed by the Secretary, to have one or more disabilities; and (ii) is attending any institution, as defined in section 17(a), or a nonresidential public or nonprofit private school of high school grade or under, for the purpose of participating in a school program established for individuals with disabilities | 7 CFR part 210.
School Breakfast Program | 42 U.S.C. 1773, 1779 | Section 220.2 defines “Child” as meaning a (1) A student of high school grade or under as determined by the State educational agency, who is enrolled in an educational unit of high school grade or under as described in paragraphs (1) and (2) of the definition of “School”, including students who are mentally or physically disabled as defined by the State and who are participating in a school program established for the mentally or physically disabled; or (2) a person under 21 chronological years of age who is enrolled in an institution or center as described in paragraph (3) of the definition of School in this section | 7 CFR part 220.
Child and Adult Care Food Program | 42 U.S.C. 1766 | Section 1766 outlines that reimbursement may be provided under this section only for supplements served to school children who are not more than 18 years of age, except that the age limitation provided by this subsection shall not apply to a child | 7 CFR part 226.
|  | Section 1766(a)(3) and 7 CFR 226.2 outlines that reimbursement are permitted for meals served to children through the age of 12, children of migrant workers through the age of 15, and persons with disabilities, in child care centers and day care homes
|  | Section 1766(o)(1) and 7 CFR 226.2 outlines that adult day care centers receive reimbursement for meals served to enrolled adults who are functionally impaired or age 60 and older
|  | Section 1766(t)(5); and 7 CFR 226.2 outlines that reimbursement are permitted for emergency shelters for up to three meals served each day to residents age 18 and younger
|  | Section 1766(r) and 7 CFR 226.17a(c) outlines that reimbursement are permitted in at-risk afterschool care programs for meals served during the regular school year to children through the age of 18
Summer Food Service Program | 42 U.S.C. 1761 | Section 1761(a)(1)(B) and 7 CFR 225.2 outlines that Children age 18 and under may receive meals through SFSP. A person 19 years of age and over who has a mental or physical disability (as determined by a State of local educational agency) and who participates during the school year in a public or private non-profit school program (established for the mentally or physically disabled) is also eligible to receive meals. In certain circumstances, pregnant women who receive Early Head Start services are also eligible to receive meals through SFSP if they are age 18 or under. To establish eligibility, prospective mothers must be enrolled in Early Head Start and be eligible to receive school meals through the NSLP or another child nutrition program | 7 CFR part 225.
Forest Service
National Parks and Federal Recreational Lands Pass | 16 U.S.C. 6808h | Section 6808h(b)(1) AGE DISCOUNT.—The Secretary shall make the National Parks and Federal Recreational Lands Pass available, at a cost of $10.00, to any United States citizen or person domiciled in the United States who is 62 years of age or older, if the citizen or person provides adequate proof of such age and such citizenship or residency | None.
Natural Resources Conservation Service
Agriculture Conservation Experienced Services (ACES) | 16 U.S.C. 3851 | Section 1252 authorizes and directs the Secretary to “establish a conservation experienced services program (in this section referred to as the “ACES Program”) for the purpose of utilizing the talents of individuals who are age 55 or older, but who are not employees of the Department of Agriculture or a State agriculture department, to provide technical services in support of the conservation-related programs and authorities carried out by the Secretary.” | None.
Rural Development
Section 504 Origination Loans and Grants | 42 U.S.C. 1474 | Section 504 loans and grants are intended to help very low-income owner-occupants in rural areas repair their properties. Section 3550.103 provides that “to be eligible for grant assistance, an application must be 62 years of age or older at the time of the application.” | 7 CFR 3550.101 et seq.
Section 515 Rural Rental Housing Loans Program Section 521 Rental Assistance Program | 42 U.S.C. 1490a | Under the Direct Multi-Family Housing Loan and Grants, Section 515 Rural Rental Housing program supplies apartments for elderly and disabled people that are equipped with special amenities. USDA provides assistance through the separately appropriated Section 521 Rental Assistance Program, which brings tenants' rent down to 30 percent of their adjusted incomes. Section 3560 defines “elderly person” as “a person who is at least 62 years old.” | 7 CFR part 3560.
National Institute of Food and Agriculture
Secondary Education, Two-Year Postsecondary Education, and Agriculture in the K-12 Classroom Challenge Grants Program | 7 U.S.C. 3152(j) | Section 1417(j) directs the Secretary to “promote complementary and synergistic linkages among secondary, 2-year postsecondary, and higher education programs in the food and agricultural sciences in order to promote excellence in education and encourage more young Americans to pursue and complete a baccalaureate or higher degree in the food and agricultural sciences.” The Act further empowers the Secretary to make competitive or noncompetitive grants to public secondary schools, institutions of higher education that award an associate's degree, other institutions of higher education, and nonprofit organizations [to] . . . (C) to interest young people in pursuing higher education in order to prepare for scientific and professional careers in the food and agricultural sciences; . . . and (G) to support current agriculture in the classroom programs for grades K-12 | None.
Hispanic-Serving Institutions—Competitive Grants Program for Hispanic Agricultural Workers and Youth | 7 U.S.C. 3243, as amended | Section 1456(e)(1), as amended by the Agricultural Act of 2014, states that the “Secretary shall establish a competitive grants program . . . (B) to award competitive grants to Hispanic-serving agricultural colleges and universities to provide for training in the food and agricultural sciences of Hispanic agricultural workers and Hispanic youth working in the food and agricultural sciences | 7 CFR part 3434.
Girl Scouts of the United States of America, the Boy Scouts of America, the National 4-H Council, and the National FFA Organization | 7 U.S.C. 7630, as amended | Section 410(d). Grants for Youth Organizations of the Agricultural, Research, Extension and Education Reform Act of 1998, directs the Secretary to make grants available to the designated youth organizations for the organizations' establishment of pilot projects to expand their programs in rural areas and small towns. Eligibility is limited to the four statutorily-identified youth organizations | None.
Youth Farm Safety and Education Certification (YFSEC) | 7 U.S.C. 341, et seq.; 7 U.S.C. 343(d) | The primary purpose of program is to develop a coordinated approach to agricultural safety and health education for youth. YFSEC Program notices define “youth” as “children or adolescents who have reached their 12th birthday; but not their 20th birthday.” | 29 CFR part 570, subpart E-1.
Expanded Food and Nutrition Education Program (EFNEP) | 7 U.S.C. 3175 | Section 1425 authorizes a national education program to enable low-income individuals and families. Through EFNEP, the Department delivers several “youth” programs that offer education on nutrition, food preparation, and food safety | 7 CFR part 15, subpart A.
The Children, Youth, and Families At-Risk Sustainable Community Projects (CYFAR SCP) | 7 U.S.C. 341, et seq.; 7 U.S.C. 343(d) | Section 3(d) of the Smith-Lever Act authorizes the Department to administer the CYFAR SCP. Per Program notices, CYFAR SCP supports community educational programs for at-risk children, youth, and families which are based on locally identified needs, soundly grounded in research, and which lead to the accomplishment of one of four CYFAR National Outcomes; and (2) [t]o integrate CYFAR programming into ongoing Extension programs for children, youth, and families—insuring that at-risk, low income children, youth, and families continue to be part of Extension and/or 4-H programs and have access to resources and educational opportunities | 7 CFR part 3015, 7 CFR part 3019, 7 CFR part 3430.
Risk Management Agency
Federal Crop Insurance Program | 7 U.S.C. 1501 | Per the Crop Insurance Handbook, which provides the official FCIC approved underwriting standards for policies administered by Approved Insurance Providers under the Common Crop Insurance Policy Basic Provisions, 7 CFR part 457 including the Catastrophic Risk Protection Endorsement, 7 CFR part 402, and the Actual Production History Regulation 7 CFR part 400 Subpart G for the 2014 and succeeding crop years, to be eligible for crop insurance the applicant must be of “legal majority.” Legal majority is defined as “where the individual has reached 18 years old or was conferred legal majority by a court. (1) For individuals less than 18 years of age or where legal majority has not been conferred by a court, to be eligible for crop insurance: (a) A minor must provide evidence an insurable share exists; and (b) a court-appointed guardian or parent must co-sign the application. (2) When a court-appointed guardian or parent cosigns the application: (a) An acknowledgement guaranteeing payment of the annual premium must be included with the application; and (b) a written statement describing the farming operation and the insurable share must be provided. (3) For CAT coverage only, a minor who is competent to enter into a binding contract, may insure a crop at CAT level without a cosigner; however, if not competent to enter into a binding contract, a court-appointed guardian or parent must sign the application.” | 7 CFR parts 400, 402, 457.

Dated: November 17, 2014.
Thomas J. Vilsack,
Secretary.

[FR Doc. 2014-28452 Filed 12-9-14; 8:45 am]

BILLING CODE P